ENVIRONMENTAL PROTECTION AGENCY

[FRL-8765-5]

Science Advisory Board Staff Office; Clean Air Scientific Advisory Committee (CASAC); Notification of Public Teleconferences; of the Ambient Air Monitoring & Methods (AAMM) Subcommittee

AGENCY: Environmental Protection Agency (EPA).

ACTION: Notice.

SUMMARY: The Environmental Protection Agency (EPA or Agency) Science Advisory Board (SAB) Staff Office announces two public teleconferences of the Clean Air Scientific Advisory Committee (CASAC) Ambient Air Monitoring & Methods Subcommittee (AAMMS or Subcommittee) to conduct consultations concerning ambient air monitoring issues related to the National Ambient Air Quality Standards (NAAQS) for ozone and particulate matter.

DATES: The meeting dates are Tuesday, February 10, 2009, from 11 a.m. to 2 p.m. (Eastern Time) and Wednesday, February 11, 2009, from 1 p.m. to 4 p.m. (Eastern Time).

FOR FURTHER INFORMATION CONTACT: Any member of the public who wishes to obtain further information concerning this public teleconference may contact: Ms. Kyndall Barry, Designated Federal Officer (DFO), EPA Science Advisory Board (1400F), U.S. Environmental Protection Agency, 1200 Pennsylvania Avenue, NW., Washington, DC 20460; via telephone/voice mail: (202) 343-9868; fax: (202) 233-0643; or e-mail at barry.kyndall@epa.gov. General information concerning the CASAC can be found on the EPA Web site at http://www.epa.gov/casac/.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and NAAQS under sections 108 and 109 of the Act. The CASAC is a Federal advisory committee chartered under the Federal Advisory Committee Act (FACA), as amended, 5 U.S.C., App. The CASAC Ambient Air Monitoring & Methods Subcommittee (AAMMS) was established in 2004 as a standing subcommittee of CASAC to provide advice and recommendations to the EPA Administrator on topics specific to ambient air monitoring, methods and networks. The Subcommittee will comply with the provisions of FACA and all appropriate SAB Staff Office procedural policies. Section 109(d)(1) of the CAA requires that the Agency periodically review and revise, as appropriate, the air quality criteria and the NAAQS for the six “criteria” air pollutants, including both ozone (O3) and particulate matter (PM).

a. AAMMS Teleconference, February 10, 2009—Ozone Network Design

In March 2008, the final rule for the Ozone NAAQS was published (73 FR 16436). The rule revised both the primary and secondary standards and set identical, 8-hour standards of 0.075 ppm expressed to three decimal places for both public health and welfare. In the March 2008 rule, EPA committed to develop separate rulemaking to support changes in the monitoring network requirements based on the revisions of the primary and secondary O3 NAAQS. EPA is also considering changes to the required O3 monitoring season. EPA's Office of Air and Radiation (OAR) requested the consultative advice of the AAMMS on the options for network design and O3 monitoring season to guide the development of potential monitoring requirements. Additional information on the O3 monitoring issues is available on the OAR Web page at http://www.epa.gov/ttn/naaqs/standards/ozone/s_o3_index.html.

b. AAMMS Teleconference, February 11, 2009—Coarse Particle Speciation

In October 2006, EPA issued the final rule to revise both the primary and secondary NAAQS for PM (71 FR 61144). The Agency decided to retain PM10 as the indicator for thoracic coarse particles as promulgated in July 1997 (62 FR 38652). The final rule establishes ambient air monitoring requirements for a PM10-2.5 indicator of thoracic coarse particles to support research on particle distribution, sources, and health effects. A new Federal Reference Method (FRM) was also promulgated in the rule for measuring the mass concentration of PM10-2.5 in ambient air. As part of the revisions to the Ambient Air Monitoring Regulations, PM10-2.5 speciation monitoring will be required at National Core (NCore) multi-pollutant monitoring stations by January 1, 2011. EPA OAR requested AAMMS consultative advice on the issues related to PM10-2.5 speciation and monitoring. Additional information on the monitoring issues specific to coarse particles is available on the OAR Web page at http://www.epa.gov/ttn/naaqs/standards/pm/s_pm_index.html.

Technical Contacts: Any technical questions concerning the indicator and ambient air monitoring issues related to the O3 or PM NAAQS can be directed Mr. Lewis Weinstock, OAQPS, at phone: (919) 541-3661, or e-mail weinstock.lewis@epa.gov.

Availability of Meeting Materials: The Agency documents for both consultations will be posted on the EPA Technology Transfer Network (TTN) Web site on the respective pages for the Ozone and PM NAAQS at http://www.epa.gov/ttn/naaqs/. Prior to the meetings, the agendas and other materials for these AAMMS teleconferences will be accessible through the calendar link on the blue navigation bar at http://www.epa.gov/casac/.

Procedures for Providing Public Input: Interested members of the public may submit relevant written or oral information for consideration on the topics included in this advisory activity. Oral Statements: In general, individuals or groups requesting an oral presentation at a public teleconference will be limited to three minutes per speaker, with no more than a total of 30 minutes for all speakers. Interested parties should contact Ms. Barry, DFO, in writing (preferably via e-mail), by February 6, 2009, at the contact information noted above, to be placed on the list of public speakers for this meeting.

Written Statements: Written statements should be received in the SAB Staff Office by the same date, so that the information may be made available to the CASAC Panel for its consideration prior to this teleconference. Written statements should be supplied to the DFO in the following formats: one hard copy with original signature and one electronic copy via e-mail (acceptable file formats: Adobe Acrobat PDF, MS Word, WordPerfect, MS PowerPoint, or Rich Text files in IBM-PC/Windows 98/2000/XP format).

Submitters are asked to provide versions of each document submitted with and without signatures, because the SAB Staff Office does not publish documents with signatures on its Web sites.

Accessibility: For information on access or services for individuals with disabilities, please contact Ms. Barry at the phone number or e-mail address noted above, preferably at least ten days prior to the meeting, to give EPA as much time as possible to process your request.

Dated: January 15, 2009.
Anthony F. Maciorowski,
Deputy Director, EPA Science Advisory Board Staff Office.

[FR Doc. E9-1396 Filed 1-22-09; 8:45 am]

BILLING CODE 6560-50-P